DEPARTMENT OF COMMERCE

National Oceanic and Atmospheric Administration

[I.D. 102703B]

Taking and Importing Marine Mammals; Taking Marine Mammals Incidental to Power Plant Operations

AGENCY: National Marine Fisheries Service (NMFS), National Oceanic and Atmospheric Administration (NOAA), Commerce.

ACTION: Notice of issuance of a Letter of Authorization.

SUMMARY: In accordance with the Marine Mammal Protection Act (MMPA), as amended, and implementing regulations, notification is hereby given that NMFS has issued a Letter of Authorization (LOA) to take marine mammals by harassment, injury and mortality, incidental to power plant operations to Seabrook Station nuclear power plant, Seabrook, NH.

DATES: Effective from November 1, 2003, through June 30, 2004.

ADDRESSES: A copy of the October 3, 2003, application is available by writing to P. Michael Payne, Chief, Marine Mammal Conservation Division, Office of Protected Resources, NMFS, 1315 East-West Highway, Silver Spring, MD 20910, or by telephoning the contact listed here.

FOR FURTHER INFORMATION CONTACT: Kimberly Skrupky, Office of Protected Resources, NMFS, (301) 713-2322, ext 163.

SUPPLEMENTARY INFORMATION:

Background

Section 101(a)(5)(A) of the MMPA (16 U.S.C. 1361 et seq.) directs the Secretary of Commerce to allow, upon request, the incidental, but not intentional taking of small numbers of marine mammals by U.S. citizens who engage in a specified activity (other than commercial fishing) within a specified geographical region if certain findings are made and regulations are issued.

Permission may be granted for periods of 5 years or less if NMFS finds that the taking will have no more than a negligible impact on the species or stock(s), and will not have an unmitigable adverse impact on the availability of the species or stock(s) for subsistence uses. In addition, NMFS must prescribe regulations that include permissible methods of taking and other means effecting the least practicable adverse impact on the species and its habitat, and on the availability of the species for subsistence uses, paying particular attention to rookeries, mating grounds, and areas of similar significance. The regulations must include requirements pertaining to the monitoring and reporting of such taking.

Regulations governing the taking of marine mammals incidental to the power plant operations were published on May 25, 1999 (64 FR 28114), and remain in effect until June 30, 2004. For detailed information on this action, please refer to that document. These regulations include mitigation, monitoring, and reporting requirements for the incidental taking of marine mammals by power plant operations.

Summary of Request

On October 3, 2003, NMFS received an application from FPL Energy Seabrook, LLC for an LOA under the regulations issued on May 25, 1999 (64 FR 28114), and effective on July 1, 1999. This application requested authorization to take, by harassment, under section 101(a)(5)(A) of the MMPA, small numbers of marine mammals incidental to routine operations of the Seabrook Station nuclear power plant in Seabrook, New Hampshire for a period not to exceed one year.

Authorization

Accordingly, NMFS issued an LOA to FPL Energy Seabrook, LLC on October 31, 2003, authorizing the taking of small numbers of marine mammals incidental to routine operations of the Seabrook Station nuclear power plant. Issuance of this LOA is based on findings, described in the preamble to the final rule (64 FR 28114, May 25, 1999), that the total takings by this activity will result in small numbers of marine mammals being taken, have no more than a negligible impact on marine mammal stocks, and will not have an unmitigable adverse impact on the availability of the affected marine mammal stocks for subsistence uses.

This LOA remains valid until June 30, 2004, provided that FPL Energy Seabrook, LLC is in conformance with the conditions of the regulations and the LOA, and the mitigation, monitoring, and reporting requirements described in 50 CFR 216.130-216.137 (64 FR 28114, May 25, 1999) and in the LOA is undertaken.

Dated: October 31, 2003.
Laurie K. Allen,
Acting Office Director, Office of Protected Resources, National Marine Fisheries Service.

[FR Doc. 03-27995 Filed 11-5-03; 8:45 am]

BILLING CODE 3510-22-S